DEPARTMENT OF TRANSPORTATION

Federal Aviation Administration

14 CFR Part 121

[Docket No.: FAA-2016-9526; Amdt. No. 121-377A]

RIN 2120-AK95

Qualification, Service, and Use of Crewmembers and Aircraft Dispatchers; Related Aircraft Amendment

AGENCY: Federal Aviation Administration (FAA), DOT.

ACTION: Final rule; Correction.

SUMMARY: The FAA is correcting a final rule published on December 16, 2016. In that final rule, which becomes effective on January 17, 2017, the FAA will allow air carriers to seek a deviation from the flight simulation training device (FSTD) requirements for related aircraft proficiency checks. As a result, that rule will eliminate an inconsistency that currently permits carriers that have obtained FAA approval to modify the FSTD requirements for related aircraft differences training, but not for corresponding proficiency checks. The FAA inadvertently listed an incorrect Amendment Number for that final rule. This document corrects that error.

DATES: Effective January 17, 2017.

FOR FURTHER INFORMATION CONTACT: Sheri Pippin, Air Transportation Division, AFS-200, Federal Aviation Administration, 800 Independence Avenue SW., Washington, DC 20591; telephone (202) 267-8166; email sheri.pippin@faa.gov.

SUPPLEMENTARY INFORMATION:

Background

On December 16, 2016, the FAA published a final rule entitled, “Qualification, Service, and Use of Crewmembers and Aircraft Dispatchers; Related Aircraft Amendment.” 81 FR 90979. In that final rule, effective January 17, 2017, the FAA inadvertently listed the incorrect Amendment Number for part 121 in the header information of the final rule as 121-397. The correct amendment number is 121-377.

Correction

In the final rule, FR Doc. 2016-30211, published on December 16, 2016, at 81 FR 90979 make the following correction:

1. On page 90979 in the heading of the final rule, revise “Amdt. No. 121-397” to read as “121-377”.

Issued in Washington, DC, under the authority provided by 49 U.S.C. 106(f), on December 22, 2016.
Lirio Liu,
Director, Office of Rulemaking.

[FR Doc. 2016-31507 Filed 12-28-16; 8:45 am]

BILLING CODE 4910-13-P